DEPARTMENT OF ENERGY

Office of Nuclear Energy; Request for Information on Approaches Involving Private Initiatives for Consolidated Interim Storage Facilities

AGENCY: Spent Fuel and Waste Disposition, Office of Nuclear Energy, Department of Energy.

ACTION: Notice of availability and request for information.

SUMMARY: The U.S. Department of Energy (DOE), Office of Nuclear Energy, released on its Web site a Request for Information (RFI) on Private Initiatives (PIs) for Consolidated Interim Storage Facilities. The purpose of the RFI is to gather input on the role of PIs for private consolidated interim storage facilities (ISF) services as part of an integrated waste management system.

DATES: Written comments and information are requested on or before January 27, 2017.

ADDRESSES: Interested parties are to submit requested information by any of the following methods:

Email: Responses may be provided by email to PrivateISF@hq.doe.gov.

Mail: Responses may be provided by mail to the following address: U.S. Department of Energy, Office of Nuclear Energy, Response to RFI on Private Initiatives to Develop Consolidated SNF Storage Facilities, 1000 Independence Ave. SW., Washington, DC 20585.

Fax: Responses may be faxed to 202-586-0544. Please include “Response to RFI on Private Initiatives to Develop Consolidated SNF Storage Facilities” on the fax cover page.

Online: Responses will be accepted online at www.regulations.gov.

Instructions: All submissions received are to include “Response to RFI on Private Initiatives to Develop Consolidated SNF Storage Facilities” in the subject of the message. The complete RFI, including the additional instructions, can be found at www.energy.gov/ne/downloads/Private-ISF.

FOR FURTHER INFORMATION CONTACT: Requests for further information should be sent to Mr. Andrew Griffith via PrivateISF@hq.doe.gov.

SUPPLEMENTARY INFORMATION:

Since the Administration's Strategy for the Management and Disposal of Used Nuclear Fuel and High-Level Radioactive Waste was issued, PIs for interim storage facilities that could provide DOE or utilities with consolidated SNF interim storage services are in various stages of development. PIs, although were not envisioned in the Administration's Strategy, represent a potentially promising alternative to federal facilities for consolidated interim storage. The RFI seeks input on key questions related to the role PFIs could play in an integrated waste management system. The RFI is available on the DOE-NE Web site at: www.energy.gov/ne/downloads/Private-ISF.

The DOE Office of Nuclear Energy invites all interested parties to submit in writing by January 27, 2017, comments and information on matters addressed in the notice.

Submitting Comments

Instructions: Submit comments via any of the mechanisms set forth in the ADDRESSES section.

DOE intends to make the responses submitted to this RFI publicly available in their entirety. Therefore, DOE recommends that respondents do not include any business sensitive, proprietary, or otherwise privileged information (Confidential Business Data or CBI), or any personally identifiable information (PII) such as personal email or phone numbers, in their submission. Responses to this RFI will be automatically posted and made publicly available; DOE will not review submissions for any CBI or PII so it is the respondents' responsibility to ensure no such information is submitted.

If a respondent would like to respond with information that contains potential CBI or PII, they may do so by submitting responses to privateISF_Sensitive@hq.doe.gov. Responses are subject to disclosure statutes such as the Freedom of Information Act. As such, the respondent should clearly identify any CBI or PII and indicate the rationale why such information should not be released. For further details on DOE's treatment of potential CBI that is subject to a FOIA request, see 10 CFR 1004.11 and 5 U.S.C. 552(b)(4).

Issued in Washington, DC, on October 24, 2016.
Andrew Griffith,
Deputy Assistant Secretary for Spent Nuclear Fuel and Waste Disposition, Office of Nuclear Energy, Department of Energy.

[FR Doc. 2016-26018 Filed 10-26-16; 8:45 am]

BILLING CODE 6450-01-P